DEPARTMENT OF AGRICULTURE

Forest Service

Request for Proposals for 2013 Statewide Wood Energy Teams

AGENCY: U.S. Forest Service, USDA.

ACTION: Request for proposals.

SUMMARY: The Department of Agriculture (USDA), Forest Service, State and Private Forestry (S&PF), is providing leadership and funding on behalf of a USDA, multi-agency, Wood To Energy Initiative by offering a Request For Proposals (RFP) that supports collaborative, statewide wood energy teams that advance the installation of commercially viable wood energy systems. Public-private statewide teams are invited to seek funding to support the development of geographic or business sector-based clusters of wood energy projects. Activities may include, but are not limited to, workshops and assistance that provide technical, financial and environmental information; preliminary engineering assessments; and community outreach needed to support development of wood energy projects in both the public and private sectors.

DATES: Application Deadline: Monday, August 5, 2013.

ADDRESSES: All applications shall be sent to the Wood Education and Resource Center (WERC): Wood Education and Resource Center, U.S. Forest Service, 301 Hardwood Lane, Princeton, WV 24740, Phone: (304) 487-1510, Email: werc@fs.fed.us.

Detailed information regarding what to include in the application, eligibility, and necessary prerequisites for consideration are available at http://www.na.fs.fed.us/werc and at www.grants.gov. Paper copies of the information are also available by contacting the U.S. Forest Service, Wood Education and Resource Center (WERC), 301 Hardwood Lane, Princeton, West Virginia 24740, (304) 487-1510.

FOR FURTHER INFORMATION CONTACT: For questions regarding the application or administrative regulations, contact your appropriate Forest Service Regional Biomass Coordinator as listed in the addresses below or contact Steve Milauskas (smilauskas@fs.fed.us) or Ed Cesa (ecesa@fs.fed.us) at the Wood Education and Resource Center, Princeton, WV (304) 487-1510. For additional contact information, please see SUPPLEMENTARY INFORMATION.

SUPPLEMENTARY INFORMATION:

Additional Contact Information

• Forest Service Region 1 (MT, ND, Northern ID & Northwestern SD), ATT: Angela Farr, USDA Forest Service, Northern Region (R1), Federal Building, 200 East Broadway, Missoula, MT 59807, afarr@fs.fed.us, (406) 329-3521

• Forest Service Region 2 (CO, KS, NE, SD, & WY), ATT: Rick Cooksey, USDA Forest Service, Rocky Mountain Region (R2), 740 Simms St., Golden, CO 80401-4702, rcooksey@fs.fed.us, (303) 275-5750

• Forest Service Region 3 (AZ & NM), ATT: Dennis Dwyer, USDA Forest Service, Southwestern Region (R3), 333 Broadway Blvd. SE., Albuquerque, NM 87102, ddwyer@fs.fed.us, (505) 842-3480

• Forest Service Region 4 (Southern ID, NV, UT, & Western WY), ATT: Scott Bell, USDA Forest Service, Intermountain Region (R4), Federal Building, 324 25th St., Ogden, UT 84401, sbell@fs.fed.us, (801) 625-5259

• Forest Service Region 5 (CA, HI, Guam and Trust Territories of the Pacific Islands), ATT: Larry Swan, USDA Forest Service, Pacific Southwest Region (R5), 1323 Club Drive, Vallejo, CA 95492-1110, lswan01@fs.fed.us, (707) 562-8917

• Forest Service Region 6 (OR & WA), ATT: Ron Saranich, USDA Forest Service, Pacific Northwest Region (R6), 333 SW 1st Ave., Portland, OR 97204, rsaranich@fs.fed.us, (503) 808-2346

• Forest Service Region 8 (AL, AR, FL, GA, KY, LA, MS, NC, OK, SC, TN, TX, VA, Virgin Islands & Puerto Rico), ATT: Dan Len, USDA Forest Service, Southern Region (R8), 1720 Peachtree Rd. NW., Atlanta, GA 30309, dlen@fs.fed.us, (404) 347-4034

• Forest Service Region 9 (CT, DL, IL, IN, IA, ME, MD, MA, MI, MN, MO, NH, NJ, NY, OH, PA, RI, VT, WV, WI), ATT: Lew McCreery, Northeastern Area—S&PF, 180 Canfield St., Morgantown, WV 26505, lmccreery@fs.fed.us, (304) 285-1538

• Forest Service Region 10 (Alaska), ATT: Daniel Parrent, USDA Forest Service, Alaska Region (R10), 161 East 1st Avenue, Door 8, Anchorage, AK 99501, djparrent@fs.fed.us, (907) 743-9467

The agreements awarded pursuant to this RFP may support one or more goals of Public Law 110-234, Food, Conservation, and Energy Act of 2008, Rural Revitalization Technologies (7 U.S.C. 6601), Consolidated and Further Continuing Appropriations Act, 2013, Public Law 113-6 and the nationwide challenge of disposing of woody residues from wildland fire hazardous fuels, other forest management treatments, and manufacturing residuals while expanding renewable energy opportunities in rural areas and markets for ecosystem restoration projects. Goals of the program are to:

• Create wood energy systems using commercially available technologies that use woody biomass.

• Expand markets that convert woody biomass into energy to support wildfire mitigation, forest restoration, and other forest management goals.

• Develop a systematic approach to installations that will support clusters of projects or larger projects that improve the viability of businesses that harvest, process, and deliver wood.

• Support the development or expansion of statewide wood energy teams that can provide technical, financial and environmental information required for developing wood energy projects to reduce the use of fossil fuels, including but not limited to:

○ Pre-feasibility and preliminary engineering assessments.

○ Education and outreach to support the installation of commercially available wood energy systems in the public and private sectors.

○ Innovative approaches to managing and financing wood energy project development.

Cooperative Agreement Requirements

1. Eligibility Information

a. Eligible Applicants. Eligible applicants are State, local and Tribal governments, non-profit organizations, or public utilities districts. Applicants may be either or both of the fiscal and administrative agents for the funding.

b. Cost Sharing (Matching Requirement). Applicants must demonstrate at least a 1:1 non-Federal match of the amount received through the Cooperative Agreement. The match amount can be either cash or in-kind contributions. For example, if the Forest Service provides $250,000 through the Cooperative Agreement, $200,000 could be provided in cash and $50,000 could be provided by in-kind contributions from non-Federal partners. In-kind salary contributions from Federal partners in the statewide teams do not qualify as match.

2. Award Information

Total funding anticipated for awards is $1 million for the FY 2013 Statewide Wood Energy Teams. Individual Cooperative Agreements cannot exceed $250,000. The Federal government's obligation under this program is contingent upon the availability of funds. Cooperative Agreements exist for three to five years from the date of award. Written performance reports and financial reports shall be required and submitted to the appropriate office as described in the final Cooperative Agreement. Ten percent of funding will be held by the administrator of the Cooperative Agreement until reporting is completed. Cooperative Agreements require Forest Service personnel to have substantial involvement in projects.

3. Application Requirements

This program requires that teams have had prior working experience or demonstrate capacity to form and develop effective working teams immediately upon award of funding. The following are key elements applicants will need to include in their application submission:

a. Applicants must include a list of team members and what agencies, organizations, businesses or interests they represent, and why this particular team composition and representation will enable successful implementation of the proposed work plan. Evidence of outreach or description of what has been done to date to incorporate participation from underserved communities must be described. Letters of commitment from individual members or institutions to participate as part of the team should be included in an appendix.

b. Applicants shall explain how and why the team was begun and its accomplishments to date. Applicants must describe team management structure and what individuals fill what roles. Proposed teams should describe prior working relationships and accomplishments as a team or demonstrate their capacity to function as an effective team. If a formal strategic or organizational plan exists, it can be included as an appendix. In addition, there should be evidence of prior ability to leverage resources and/or a clear plan with experienced individuals assigned that will implement the team's plan to leverage resources, sufficient at minimum for the 1:1 match requirement.

c. Applicants shall include the geographic scope of the team's work. Most teams will operate statewide. If a sub-state level team is proposed, the importance of operating at that scale will need to be justified. Only one team per state will be funded. Multi-state proposals will not be considered at this time. However, regional coordination across state lines can improve a team's effectiveness. An applicant can submit individual proposals for multiple states, but must have letters of support from officials in each state.

d. Applicants must include a proposed program of work for the life of the agreement which could be for a period of three to five years. The program of work will include a statement of need and specific goals and/or objectives that articulates how the team plans to accomplish the installation of clusters of wood energy projects or larger projects. It will include expected timeframes and methods for identifying target areas, outreach to accomplish installations, engineering assessments, financing, addressing sustainability issues, and other tasks as appropriate. This section should also identify potential challenges and uncertainties that could have a significant impact on the program of work.

e. Applicants will estimate of the number of systems planned, under construction, and installed for each year and the total length of the agreement period. Systems should be commercially available with a track record of successful operation, not experimental or demonstration systems. If the team has been functioning and has some projects in process, it is appropriate to show how this agreement will facilitate completion of these projects and provide a list of the projects already underway.

4. Application Evaluation

Applications will be evaluated against the criteria discussed in Section 5. All applications will be screened to ensure compliance with the administrative requirements as set forth in this RFP. Applications not following the directions for submission shall be disqualified without appeal. Directions can be found at http://www.na.fs.fed.us/werc/ under 2013 Statewide Wood Energy Teams.

The appropriate Forest Service Region/Area shall provide guidance on completing the RFP during the application development process. The nationwide competition will consist of a technical review of the proposed projects by Federal experts or their designees. Panel reviewers independently evaluate each proposal for merit and assign a score using the criteria listed in Section 5. Selected proposals shall be submitted to the Forest Service national leadership, who make the final decision on the selected proposals.

5. Evaluation Criteria and Point System

Reviewers will assign points to each proposal based on their ability to meet the following criteria. A maximum of 100 total points can be earned per proposal.

• Alignment with statewide wood energy team goals identified in RFP (20 points),

• Knowledge and skills of team members and composition of teams (20 points),

• Team management and leveraged resources (20 points),

• Program of work, budget, and projected accomplishments (20 points),

• Communication; outreach; and methodology for announcing, selecting and providing project assistance (20 points).

6. Application Information

a. Application Submission. Applications shall be postmarked on or before August 5, 2013. No Exceptions. One paper copy and an electronic version shall be submitted to U.S. Forest Service, Wood Education and Resource Center, 301 Hardwood Lane, Princeton, West Virginia 24740. Electronic versions shall be submitted to werc@fs.fed.us. In addition, applications may also be submitted electronically through www.grants.gov.

b. Application Format and Content. Each submittal shall be in PDF or Word format. Paper copy shall be single sided on 8.5- by 11-inch plain white paper only (no colored paper, over-sized paper, or special covers). Do not staple. Submit all parts of the application at one time. Do not submit Letters of Commitment separately. No proposals will be accepted by facsimile machine. Use an 11-point font or larger. All forms and application template can be found at http://www.na.fs.fed.us/werc under 2013 Statewide Wood Energy Teams.

A complete application includes the following items:

1. SWET Project Application, Part 1: Cooperator Contact Information

2. SWET Project Application, Part 2: Narrative Proposal and Program of Work

3. SWET Project Application, Part 3: Financial Forms

A maximum of 11 pages per proposal for the items listed below will be accepted,

(1) Qualifications and Summary Portfolio of Team Members (Limit 1.5 Pages)

• Include each team member's name, affiliation, and years of experience in wood energy, including combustion technology, wood sourcing, financing, and community outreach.

• Describe outreach to underserved communities for participation or what has been done to incorporate participation from underserved communities.

• Include a description of prior working relationships and accomplishments as a team, including Memoranda of Understanding (MOUs), charters, or other formal agreements.

(2) Project Narrative (3.5 Pages)

• Describe how the team will be managed and which individuals will fill which roles.

• Describe the team's experience leveraging funds and its plan to leverage funds to support the team's operation and achieve the required 1:1 match.

• Describe methods for selecting areas of focus (e.g. geographic clusters, business sectors or larger projects to be targeted).

• Describe methods for solicitation and selection of projects.

• Include the proposed geographic area where the team will work and the number of years requested for the agreement.

(3) Program of Work (3.5 Pages)

• Describe statement of need and specific goals and objectives.

• Describe projected accomplishments and deliverables, including estimated number of systems planned, under construction, and installed.

• Describe communication and outreach activities that create social acceptance in communities where projects are targeted.

• Describe monitoring plan, including annual and final reports provided to agreement administrator, which will include summaries of community outreach activities, preliminary assessments, resource inventories, success stories, etc.

• Describe timeframe for activities described.

(4) Budget Summary and Justification in Support of SF 424A (2 Pages)

• Address proposed expenditures in relation to the proposed program of work.

• Include cash and in kind match, other federal funds and staff time that may help accomplish the program of work, and fee structure for fee-for-services, if planned.

(5) Project Outcomes, Annual Progress Reports and Final Reports (0.5 Pages)

• List anticipated project outcomes and accomplishments, as well as desired results.

• Describe types of reports, documents, and success stories that will be provided at the end of the project to be posted to the WERC Web site.

• Annual progress reports are required on an annual calendar year basis. The reports will provide an overview of accomplishments by goals and objectives included in the approved Cooperative Agreement narrative.

• A detailed final progress report is required and should include the following items:

○ Final Summary Report—A brief overview of accomplishments by goals and objectives included in the approved Cooperative Agreement narrative.

○ Final Accomplishment Report—includes various assessments, reports, case studies and related documents that resulted from project activities.

Final reports will be added to the WERC Statewide Wood Energy Team Web site.

7. Appendices

The following information shall be included in appendices:

a. Letters of Commitment from Team Members or Institutions: Letters of commitment shall be included in an appendix and are intended to display willingness to participate in the wood energy team. These letters shall include commitments of cash or in-kind services from all those listed in the SF 424 and SF 424A. Each letter of support is limited to one page in length.

b. Documentation of Team Member or Institution Experience with Wood Energy: Additional information about team member or institutional experience with wood energy should be provided in this appendix.

c. Documentation of Formal Agreements, Charters, etc. (optional): Provide any written formal organizational framework that will guide the operation of the team such as MOUs, State Incorporation papers, or other instruments which establish the capacity and ability of the team to function and manage their actions.

d. Federal Funds: List all other Federal funds received for this Wood Energy Team within the last three years. List agency, program name, and dollar amount.

e. Administrative Forms: SF 424, SF 424A, SF 424B and AD 1047, 1049, 3030 and certificate regarding lobbying activities are standard forms that shall be included in the application. These forms can be accessed at http://www.na.fs.fed.us/werc under 2013 Statewide Wood Energy Teams.

Dated: July 1, 2013.
James Hubbard,
Deputy Chief, State and Private Forestry.

[FR Doc. 2013-16361 Filed 7-8-13; 8:45 am]

BILLING CODE 3410-11-P